DEPARTMENT OF ENERGY

Federal Energy Regulatory Commission

[Project No. 2960-006]

City of Gonzales, Texas; Notice of Comment Period Extension

On January 10, 2019, the Commission issued a notice through the FERC eLibrary system ¹ setting March 11, 2019, as the deadline for filing motions to intervene and protests, comments, recommendations, preliminary terms and conditions, and preliminary prescriptions in the relicensing of the Gonzales Project, and April 25, 2019, as the deadline for filing reply comments. Due to the funding lapse at certain federal agencies between December 22, 2018 and January 25, 2019, the Commission is extending the deadlines by 15 days.

¹ Go to https://elibrary.ferc.gov/idmws/search/intermediate.asp?link_file=yes&doclist=14735647 and select the file link to view the document.

Dated: February 19, 2019.
Kimberly D. Bose,
Secretary.

[FR Doc. 2019-03442 Filed 2-27-19; 8:45 am]

BILLING CODE 6717-01-P